PEACE CORPS

Agency Information Collection Under Review by the Office of Management and Budget

AGENCY: Peace Corps.

ACTION: Notice of information collection for review by OMB and public comment.

SUMMARY: In accordance with the Paperwork Reduction Act, this notice invites the public to comment on the collection of information by the Peace Corps' Office of Communications, and gives notice of the Peace Corps' intention to request Office of Management and Budget (OMB) approval of the information collection. The Peace Corps' Office of Communications wishes to solicit stories and pictures from Returned Peace Corps Volunteers and other members of the public concerning the experience of Volunteers over the past 50 years. The submitted material will be used as a part of celebrations of Peace Corps' 50th anniversary in 2011. When Returned Peace Corps Volunteers and other members of the public submit stories and/or pictures, Peace Corps will request information identifying the submitter, his or her rights to the material submitted, a non-exclusive license for Peace Corps to use the material, contact information of the submitter, and information regarding the submitter's Peace Corps service, if any. Although submission of stories and pictures is voluntary, submitters will be required to fill out the forms for which Peace Corps is seeking approval.

DATES: Submit comments on or before September 2, 2008.

ADDRESSES: Comments should be addressed to Stacia Clifton, Office of Communications, Peace Corps, 1111 20th Street, NW., Washington, DC 20526. Ms. Clifton can be contacted by telephone at 202-692-2234 or e-mail at archive@peacecorps.gov. E-mail comments must be made in text and not in attachments.

FOR FURTHER INFORMATION CONTACT: Stacia Clifton, Office of Communications, Peace Corps, 1111 20th Street, NW., Washington, DC 20526.

SUPPLEMENTARY INFORMATION: Title: 50th Anniversary Archive Submission Form.

OMB Control Number: To be assigned.

Type of Request: New Collection of Information.

Abstract: The Peace Corps is collecting contact information, stories, and photos related to Peace Corps service from Returned Peace Corps Volunteers. Submissions will be received electronically or by hardcopy. Each submitter will be asked for his or her name, name at time of service (if different from present), address, telephone number, e-mail address, country of service, service years, confirmation of the submitter's ownership of the material, a non-exclusive license for Peace Corps to use the material, and basic descriptive information about the submissions such as document format, subjects and keywords. The information will be used in informational and promotional articles, exhibits and events celebrating the history of the Peace Corps.

Affected Public: Returned Peace Corps Volunteers and other members of the public with Peace Corps Volunteer stories or pictures.

Burden on the Public:

a. Annual reporting burden: 750 hours.

b. Estimated average burden per response: 15 minutes.

c. Frequency of response: Once.

e. Estimated number of likely respondents: 3000.

f. Estimated cost to respondents: $0.00/$0.00.

Dated: June 26, 2008.
Wilbert Bryant,
Associate Director for Management, Peace Corps.

[FR Doc. E8-15011 Filed 7-1-08; 8:45 am]

BILLING CODE 6051-01-P